DEPARTMENT OF TRANSPORTATION

Federal Aviation Administration

14 CFR Part 97

[Docket No. 30998; Amdt. No. 3626]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective January 30, 2015. The compliance date for each SIAP, associated Takeoff Minimums, and ODP is specified in the amendatory provisions.

The incorporation by reference of certain publications listed in the regulations is approved by the Director of the Federal Register as of January 30, 2015.

ADDRESSES: Availability of matter incorporated by reference in the amendment is as follows:

For Examination

1. U.S. Department of Transportation, Docket Ops—M30, 1200 New Jersey Avenue SE., West Bldg., Ground Floor, Washington, DC, 20590-0001;

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Richard A. Dunham III, Flight Procedure Standards Branch (AFS-420) Flight Technologies and Procedures Division, Flight Standards Service, Federal Aviation Administration, Mike Monroney Aeronautical Center, 6500 South MacArthur Blvd., Oklahoma City, OK. 73169 (Mail Address: P.O. Box 25082 Oklahoma City, OK. 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary.

This amendment provides the affected CFRs, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (Air).

Issued in Washington, DC, on January 2, 2015.
John Duncan,
Director, Flight Standards Service.

Adoption of the Amendment

Accordingly, pursuant to the authority delegated to me, Title 14, Code of Federal regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

§§ 97.23, 97.25, 97.27, 97.29, 97.31, 97.33, 97.35 [Amended]

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject.
5-Feb-15 | IA | Cherokee | Cherokee County Rgnl | 4/0182 | 12/18/14 | RNAV (GPS) Y RWY 36, Orig-A.
5-Feb-15 | KY | Lexington | Blue Grass | 4/0198 | 12/22/14 | RNAV (GPS) RWY 27, Orig.
5-Feb-15 | TX | Corpus Christi | Corpus Christi Intl | 4/0220 | 12/22/14 | RNAV (RNP) Z RWY 36, Amdt 1.
5-Feb-15 | TX | Corpus Christi | Corpus Christi Intl | 4/0226 | 12/22/14 | RNAV (RNP) Z RWY 31, Orig-C.
5-Feb-15 | TX | Corpus Christi | Corpus Christi Intl | 4/0228 | 12/22/14 | RNAV (RNP) Z RWY 13, Orig-B.
5-Feb-15 | TX | Corpus Christi | Corpus Christi Intl | 4/0230 | 12/22/14 | RNAV (GPS) Y RWY 13, Amdt 1B.
5-Feb-15 | TX | Corpus Christi | Corpus Christi Intl | 4/0232 | 12/22/14 | RNAV (GPS) RWY 18, Amdt 1.
5-Feb-15 | TX | Corpus Christi | Corpus Christi Intl | 4/0233 | 12/22/14 | ILS OR LOC RWY 36, Amdt 13.
5-Feb-15 | TX | Corpus Christi | Corpus Christi Intl | 4/0234 | 12/22/14 | RNAV (GPS) Y RWY 36, Amdt 2.
5-Feb-15 | TX | Corpus Christi | Corpus Christi Intl | 4/0239 | 12/22/14 | VOR OR TACAN RWY 18, Amdt 28.
5-Feb-15 | TX | Corpus Christi | Corpus Christi Intl | 4/0240 | 12/22/14 | ILS OR LOC RWY 13, Amdt 27B.
5-Feb-15 | TX | Corpus Christi | Corpus Christi Intl | 4/0242 | 12/22/14 | RNAV (GPS) Y RWY 31, Amdt 3A.
5-Feb-15 | TX | Corpus Christi | Corpus Christi Intl | 4/0243 | 12/22/14 | LOC RWY 31, Amdt 8A.
5-Feb-15 | MO | St Joseph | Rosecrans Memorial | 4/0256 | 12/18/14 | RNAV (GPS) RWY 31, Orig-A.
5-Feb-15 | OH | Youngstown | Youngstown Elser Metro | 4/0262 | 12/29/14 | Takeoff Minimums and (Obstacle) DP, Amdt 1.
5-Feb-15 | IA | Red Oak | Red Oak Muni | 4/0270 | 12/29/14 | RNAV (GPS) RWY 5, Amdt 1.
5-Feb-15 | IA | Shenandoah | Shenandoah Muni | 4/0274 | 12/29/14 | VOR/DME RWY 12, Amdt 4.
5-Feb-15 | IA | Sheldon | Sheldon Muni | 4/0283 | 12/29/14 | RNAV (GPS) RWY 33, Amdt 1.
5-Feb-15 | IA | Spencer | Spencer Muni | 4/0289 | 12/29/14 | NDB RWY 30, Amdt 9.
5-Feb-15 | IA | Spencer | Spencer Muni | 4/0290 | 12/29/14 | RNAV (GPS) RWY 18, Amdt 1.
5-Feb-15 | IA | Spencer | Spencer Muni | 4/0292 | 12/29/14 | RNAV (GPS) RWY 30, Amdt 1.
5-Feb-15 | IA | Spencer | Spencer Muni | 4/0293 | 12/29/14 | RNAV (GPS) RWY 36, Amdt 1.
5-Feb-15 | IA | Sioux City | Sioux Gateway/Col Bud Day Field | 4/0336 | 12/29/14 | ILS OR LOC RWY 13, Amdt 2A.
5-Feb-15 | IA | Sioux City | Sioux Gateway/Col Bud Day Field | 4/0337 | 12/29/14 | ILS OR LOC RWY 31, Amdt 25B.
5-Feb-15 | IA | Sioux City | Sioux Gateway/Col Bud Day Field | 4/0338 | 12/29/14 | NDB RWY 35, Orig-E.
5-Feb-15 | IA | Sioux City | Sioux Gateway/Col Bud Day Field | 4/0341 | 12/29/14 | VOR OR TACAN RWY 31, Amdt 26C.
5-Feb-15 | IA | Sioux City | Sioux Gateway/Col Bud Day Field | 4/0342 | 12/29/14 | RNAV (GPS) RWY 13, Orig-B.
5-Feb-15 | IA | Sioux City | Sioux Gateway/Col Bud Day Field | 4/0343 | 12/29/14 | VOR/DME OR TACAN RWY 13, Amdt 18B.
5-Feb-15 | IA | Sioux City | Sioux Gateway/Col Bud Day Field | 4/0345 | 12/29/14 | NDB RWY 31, Amdt 23D.
5-Feb-15 | IA | Sioux City | Sioux Gateway/Col Bud Day Field | 4/0346 | 12/29/14 | NDB RWY 13, Amdt 15F.
5-Feb-15 | CA | Santa Maria | Santa Maria Pub/Capt G Allan Hancock Fld | 4/0424 | 12/22/14 | RNAV (GPS) RWY 30, Orig-B.
5-Feb-15 | KS | Goodland | Renner Fld/Goodland Muni/ | 4/0431 | 12/29/14 | RNAV (GPS) RWY 30, Amdt 1.
5-Feb-15 | KS | Goodland | Renner Fld/Goodland Muni/ | 4/0432 | 12/29/14 | VOR/DME RWY 30, Amdt 8.
5-Feb-15 | KS | Goodland | Renner Fld/Goodland Muni/ | 4/0438 | 12/29/14 | ILS OR LOC RWY 30, Amdt 2.
5-Feb-15 | KS | Goodland | Renner Fld/Goodland Muni/ | 4/0441 | 12/29/14 | VOR RWY 30, Amdt 9.
5-Feb-15 | KS | Hill City | Hill City Muni | 4/0442 | 12/23/14 | RNAV (GPS) RWY 18, Amdt 1.
5-Feb-15 | KS | Pittsburg | Atkinson Muni | 4/0444 | 12/23/14 | RNAV (GPS) RWY 16, Amdt 2A.
5-Feb-15 | KS | Pittsburg | Atkinson Muni | 4/0448 | 12/23/14 | RNAV (GPS) RWY 4, Amdt 1B.
5-Feb-15 | KS | Belleville | Belleville Muni | 4/0452 | 12/29/14 | RNAV (GPS) RWY 36, Orig.
5-Feb-15 | CO | Pueblo | Pueblo Memorial | 4/0491 | 12/22/14 | VOR/DME RWY 26L, Orig.
5-Feb-15 | KS | Norton | Norton Muni | 4/0736 | 12/22/14 | NDB RWY 16, Amdt 2.
5-Feb-15 | KS | Norton | Norton Muni | 4/0737 | 12/22/14 | NDB RWY 34, Amdt 2.
5-Feb-15 | KS | Norton | Norton Muni | 4/0738 | 12/22/14 | RNAV (GPS) RWY 16, Amdt 1.
5-Feb-15 | KS | Norton | Norton Muni | 4/0739 | 12/22/14 | RNAV (GPS) RWY 34, Amdt 1.
5-Feb-15 | IN | Marion | Marion Muni | 4/0749 | 12/22/14 | RNAV (GPS) RWY 15, Orig-A.
5-Feb-15 | KS | Burlington | Coffey County | 4/1228 | 12/23/14 | RNAV (GPS) RWY 36, Orig.
5-Feb-15 | KS | Burlington | Coffey County | 4/1250 | 12/23/14 | RNAV (GPS) RWY 18, Orig.
5-Feb-15 | MN | Perham | Perham Muni | 4/1256 | 12/23/14 | RNAV (GPS) RWY 31, Amdt 1.
5-Feb-15 | MN | Springfield | Springfield Muni | 4/1262 | 12/23/14 | RNAV (GPS) RWY 13, Orig.
5-Feb-15 | MN | Springfield | Springfield Muni | 4/1263 | 12/23/14 | RNAV (GPS) RWY 31, Orig.
5-Feb-15 | MN | Springfield | Springfield Muni | 4/1264 | 12/23/14 | VOR/DME RWY 13, Amdt 3.
5-Feb-15 | MN | Moorhead | Moorhead Muni | 4/1311 | 12/23/14 | RNAV (GPS) RWY 30, Amdt 1.
5-Feb-15 | MN | Orr | Orr Rgnl | 4/1352 | 12/29/14 | NDB RWY 13, Amdt 8A.
5-Feb-15 | MN | Orr | Orr Rgnl | 4/1353 | 12/29/14 | RNAV (GPS) RWY 13, Orig-A.
5-Feb-15 | MN | Worthington | Worthington Muni | 4/1371 | 12/29/14 | VOR RWY 18, Amdt 10.
5-Feb-15 | MN | Worthington | Worthington Muni | 4/1373 | 12/29/14 | RNAV (GPS) RWY 29, Orig.
5-Feb-15 | MN | Worthington | Worthington Muni | 4/1375 | 12/29/14 | NDB RWY 29, Amdt 1.
5-Feb-15 | MN | Worthington | Worthington Muni | 4/1377 | 12/29/14 | RNAV (GPS) RWY 18, Orig.
5-Feb-15 | MN | Worthington | Worthington Muni | 4/1385 | 12/29/14 | ILS OR LOC RWY 29, Amdt 1.
5-Feb-15 | MN | Paynesville | Paynesville Muni | 4/1402 | 12/29/14 | RNAV (GPS) RWY 29, Amdt 1.
5-Feb-15 | MN | Paynesville | Paynesville Muni | 4/1404 | 12/29/14 | RNAV (GPS) RWY 11, Amdt 1.
5-Feb-15 | MN | Park Rapids | Park Rapids Muni-Konshok Field | 4/1405 | 12/23/14 | NDB RWY 31, Amdt 2.
5-Feb-15 | MN | Park Rapids | Park Rapids Muni-Konshok Field | 4/1406 | 12/23/14 | RNAV (GPS) RWY 31, Orig.
5-Feb-15 | MN | Park Rapids | Park Rapids Muni-Konshok Field | 4/1411 | 12/23/14 | ILS OR LOC RWY 31, Amdt 1B.
5-Feb-15 | MN | Park Rapids | Park Rapids Muni-Konshok Field | 4/1412 | 12/23/14 | VOR RWY 31, Amdt 14.
5-Feb-15 | FL | Venice | Venice Muni | 4/1521 | 12/29/14 | RNAV (GPS) RWY 5, Orig-B.
5-Feb-15 | FL | Venice | Venice Muni | 4/1522 | 12/29/14 | RNAV (GPS) RWY 13, Amdt 1B.
5-Feb-15 | FL | Venice | Venice Muni | 4/1523 | 12/29/14 | RNAV (GPS) RWY 31, Amdt 1B.
5-Feb-15 | VT | Morrisville | Morrisville-Stowe State | 4/1529 | 12/22/14 | RNAV (GPS) Y RWY 19, Amdt 1.
5-Feb-15 | VT | Morrisville | Morrisville-Stowe State | 4/1531 | 12/22/14 | RNAV (GPS) Z RWY 19, Amdt 1.
5-Feb-15 | MN | Pipestone | Pipestone Muni | 4/1550 | 12/23/14 | RNAV (GPS) RWY 18, Amdt 1.
5-Feb-15 | MN | Pipestone | Pipestone Muni | 4/1551 | 12/23/14 | RNAV (GPS) RWY 36, Amdt 1.
5-Feb-15 | MN | Rush City | Rush City Rgnl | 4/1554 | 12/23/14 | NDB RWY 34, Orig.
5-Feb-15 | MN | Rush City | Rush City Rgnl | 4/1556 | 12/23/14 | RNAV (GPS) RWY 34, Orig.
5-Feb-15 | MN | Ortonville | Ortonville Muni-Martinson Field | 4/1559 | 12/23/14 | RNAV (GPS) RWY 34, Orig.
5-Feb-15 | MN | Ortonville | Ortonville Muni-Martinson Field | 4/1560 | 12/23/14 | NDB RWY 34, Amdt 2.
5-Feb-15 | MO | Aurora | Jerry Sumners Sr Aurora Muni | 4/1564 | 12/23/14 | RNAV (GPS) RWY 18, Orig.
5-Feb-15 | MO | Branson West | Branson West Muni—Emerson Field | 4/1565 | 12/23/14 | RNAV (GPS) RWY 21, Amdt 1.
5-Feb-15 | MO | Osage Beach | Grand Glaize-Osage Beach | 4/1579 | 12/23/14 | VOR RWY 32, Amdt 6A.
5-Feb-15 | MO | Osage Beach | Grand Glaize-Osage Beach | 4/1581 | 12/23/14 | RNAV (GPS) RWY 32, Amdt 1.
5-Feb-15 | MO | Lee's Summit | Lee's Summit Muni | 4/1582 | 12/23/14 | RNAV (GPS) RWY 11, Amdt 1.
5-Feb-15 | MO | Lee's Summit | Lee's Summit Muni | 4/1583 | 12/23/14 | RNAV (GPS) RWY 36, Amdt 2.
5-Feb-15 | MO | Lee's Summit | Lee's Summit Muni | 4/1586 | 12/23/14 | RNAV (GPS) RWY 18, Amdt 2.
5-Feb-15 | MO | Lee's Summit | Lee's Summit Muni | 4/1587 | 12/23/14 | RNAV (GPS) RWY 29, Amdt 2.
5-Feb-15 | MO | Sikeston | Sikeston Memorial Muni | 4/1595 | 12/23/14 | RNAV (GPS) RWY 2, Amdt 1.
5-Feb-15 | MO | Sikeston | Sikeston Memorial Muni | 4/1596 | 12/23/14 | RNAV (GPS) RWY 20, Amdt 2.
5-Feb-15 | MO | Sikeston | Sikeston Memorial Muni | 4/1597 | 12/23/14 | VOR RWY 20, Amdt 4.
5-Feb-15 | MO | Sikeston | Sikeston Memorial Muni | 4/1598 | 12/23/14 | VOR/DME RWY 2, Amdt 3.
5-Feb-15 | MO | Trenton | Trenton Muni | 4/1610 | 12/23/14 | RNAV (GPS) RWY 18, Orig.
5-Feb-15 | MO | Trenton | Trenton Muni | 4/1611 | 12/23/14 | NDB RWY 18, Amdt 7B.
5-Feb-15 | MO | Trenton | Trenton Muni | 4/1612 | 12/23/14 | RNAV (GPS) RWY 36, Orig.
5-Feb-15 | MO | Trenton | Trenton Muni | 4/1613 | 12/23/14 | NDB RWY 36, Amdt 10.
5-Feb-15 | ND | Cavalier | Cavalier Muni | 4/1614 | 12/23/14 | RNAV (GPS) RWY 34, Amdt 1.
5-Feb-15 | ND | Linton | Linton Muni | 4/1615 | 12/23/14 | RNAV (GPS) RWY 27, Orig.
5-Feb-15 | ND | Devils Lake | Devils Lake Rgnl | 4/1616 | 12/23/14 | VOR RWY 13, Amdt 1A.
5-Feb-15 | ND | Devils Lake | Devils Lake Rgnl | 4/1617 | 12/23/14 | RNAV (GPS) RWY 21, Amdt 1A.
5-Feb-15 | ND | Devils Lake | Devils Lake Rgnl | 4/1618 | 12/23/14 | RNAV (GPS) RWY 31, Amdt 1A.
5-Feb-15 | ND | Devils Lake | Devils Lake Rgnl | 4/1622 | 12/23/14 | VOR RWY 31, Amdt 1A.
5-Feb-15 | ND | Devils Lake | Devils Lake Rgnl | 4/1624 | 12/23/14 | RNAV (GPS) RWY 13, Amdt 1A.
5-Feb-15 | NE | Hartington | Hartington Muni/Bud Becker Fld | 4/1627 | 12/22/14 | RNAV (GPS) RWY 13, Orig.
5-Feb-15 | NE | Hartington | Hartington Muni/Bud Becker Fld | 4/1630 | 12/22/14 | RNAV (GPS) RWY 31, Orig.
5-Feb-15 | NE | Pender | Pender Muni | 4/1641 | 12/22/14 | RNAV (GPS) RWY 33, Orig.
5-Feb-15 | NE | Tecumseh | Tecumseh Muni | 4/1642 | 12/22/14 | RNAV (GPS) RWY 15, Orig.
5-Feb-15 | NE | Tecumseh | Tecumseh Muni | 4/1647 | 12/22/14 | RNAV (GPS) RWY 33, Orig.
5-Feb-15 | NE | Creighton | Creighton Muni | 4/1648 | 12/22/14 | RNAV (GPS) RWY 13, Orig.
5-Feb-15 | NE | Creighton | Creighton Muni | 4/1651 | 12/22/14 | RNAV (GPS) RWY 31, Orig.
5-Feb-15 | NE | Central City | Central City Muni—Larry Reineke Field | 4/1653 | 12/22/14 | RNAV (GPS) RWY 34, Orig.
5-Feb-15 | NE | Central City | Central City Muni—Larry Reineke Field | 4/1654 | 12/22/14 | RNAV (GPS) RWY 16, Orig.
5-Feb-15 | NE | Red Cloud | Red Cloud Muni | 4/1655 | 12/23/14 | RNAV (GPS) RWY 34, Orig.
5-Feb-15 | NE | Harvard | Harvard State | 4/1656 | 12/23/14 | RNAV (GPS) RWY 17, Orig.
5-Feb-15 | NE | Harvard | Harvard State | 4/1657 | 12/23/14 | RNAV (GPS) RWY 35, Amdt 1.
5-Feb-15 | NE | Atkinson | Stuart-Atkinson Muni | 4/1658 | 12/29/14 | VOR/DME RWY 29, Amdt 1.
5-Feb-15 | NE | Atkinson | Stuart-Atkinson Muni | 4/1659 | 12/29/14 | RNAV (GPS) RWY 29, Orig.
5-Feb-15 | NE | Superior | Superior Muni | 4/1660 | 12/23/14 | RNAV (GPS) RWY 32, Orig.
5-Feb-15 | NE | Scottsbluff | Western Nebraska Rgnl/William B Heilig Field | 4/1661 | 12/23/14 | ILS OR LOC RWY 30, Amdt 10.
5-Feb-15 | NE | Scottsbluff | Western Nebraska Rgnl/William B Heilig Field | 4/1662 | 12/23/14 | RNAV (GPS) RWY 5, Amdt 1.
5-Feb-15 | NE | Scottsbluff | Western Nebraska Rgnl/William B Heilig Field | 4/1663 | 12/23/14 | RNAV (GPS) RWY 30, Amdt 1.
5-Feb-15 | NE | Beatrice | Beatrice Muni | 4/1691 | 12/23/14 | VOR RWY 36, Amdt 9.
5-Feb-15 | NE | Burwell | Cram Field | 4/1692 | 12/22/14 | RNAV (GPS) RWY 15, Orig.
5-Feb-15 | NE | Burwell | Cram Field | 4/1693 | 12/22/14 | NDB RWY 15, Amdt 1.
5-Feb-15 | NE | Chadron | Chadron Muni | 4/1697 | 12/23/14 | RNAV (GPS) RWY 29, Orig.
5-Feb-15 | NE | Chadron | Chadron Muni | 4/1698 | 12/23/14 | NDB RWY 20, Amdt 12A.
5-Feb-15 | NE | Chadron | Chadron Muni | 4/1702 | 12/23/14 | RNAV (GPS) RWY 20, Amdt 2.
5-Feb-15 | NE | Kearney | Kearney Rgnl | 4/1704 | 12/23/14 | RNAV (GPS) RWY 13, Orig.
5-Feb-15 | NE | Kearney | Kearney Rgnl | 4/1705 | 12/23/14 | VOR RWY 13, Amdt 2A.
5-Feb-15 | NE | Fremont | Fremont Muni | 4/1707 | 12/23/14 | VOR/DME RWY 14, Amdt 3.
5-Feb-15 | NE | Fremont | Fremont Muni | 4/1708 | 12/23/14 | RNAV (GPS) RWY 14, Amdt 2.
5-Feb-15 | NE | Fremont | Fremont Muni | 4/1709 | 12/23/14 | RNAV (GPS) RWY 32, Orig.
5-Feb-15 | NE | Grant | Grant Muni | 4/1712 | 12/23/14 | VOR/DME RWY 15, Amdt 2.
5-Feb-15 | NE | Hastings | Hastings Muni | 4/1713 | 12/23/14 | RNAV (GPS) RWY 4, Orig.
5-Feb-15 | NE | Hastings | Hastings Muni | 4/1714 | 12/23/14 | VOR RWY 4, Amdt 6.
5-Feb-15 | NE | Hastings | Hastings Muni | 4/1715 | 12/23/14 | RNAV (GPS) RWY 32, Orig.
5-Feb-15 | NE | Hastings | Hastings Muni | 4/1716 | 12/23/14 | VOR RWY 32, Amdt 14.
5-Feb-15 | NE | Kimball | Kimball Muni/Robert E Arraj Field | 4/1717 | 12/23/14 | RNAV (GPS) RWY 28, Amdt 1.
5-Feb-15 | NE | North Platte | North Platte Rgnl Airport Lee Bird Field | 4/1720 | 12/23/14 | RNAV (GPS) RWY 30, Amdt 2.
5-Feb-15 | NE | North Platte | North Platte Rgnl Airport Lee Bird Field | 4/1721 | 12/23/14 | ILS OR LOC RWY 30, Amdt 7.
5-Feb-15 | NE | North Platte | North Platte Rgnl Airport Lee Bird Field | 4/1723 | 12/23/14 | RNAV (GPS) RWY 35, Amdt 1.
5-Feb-15 | NE | North Platte | North Platte Rgnl Airport Lee Bird Field | 4/1724 | 12/23/14 | RNAV (GPS) RWY 12, Amdt 1.
5-Feb-15 | NE | Wayne | Wayne Muni/Stan Morris Fld | 4/1725 | 12/23/14 | RNAV (GPS) RWY 23, Amdt 1.
5-Feb-15 | NE | Ogallala | Searle Field | 4/1728 | 12/23/14 | VOR RWY 26, Amdt 6.
5-Feb-15 | NE | Ogallala | Searle Field | 4/1729 | 12/23/14 | RNAV (GPS) RWY 26, Amdt 2.
5-Feb-15 | NE | Ogallala | Searle Field | 4/1730 | 12/23/14 | RNAV (GPS) RWY 31, Orig.
5-Feb-15 | NE | Ogallala | Searle Field | 4/1731 | 12/23/14 | VOR/DME RWY 26, Amdt 1.
5-Feb-15 | SD | Sioux Falls | Joe Foss Field | 4/1794 | 12/22/14 | RNAV (GPS) RWY 33, Amdt 1.
5-Feb-15 | SD | Sioux Falls | Joe Foss Field | 4/1795 | 12/22/14 | VOR/DME OR TACAN RWY 33, Amdt 12C.
5-Feb-15 | SD | Sioux Falls | Joe Foss Field | 4/1796 | 12/22/14 | RNAV (GPS) RWY 3, Amdt 1A.
5-Feb-15 | SD | Sioux Falls | Joe Foss Field | 4/1797 | 12/22/14 | RNAV (GPS) RWY 15, Amdt 1.
5-Feb-15 | SD | Sioux Falls | Joe Foss Field | 4/1798 | 12/22/14 | VOR OR TACAN RWY 15, Amdt 21C.
5-Feb-15 | SD | Sioux Falls | Joe Foss Field | 4/1799 | 12/22/14 | ILS OR LOC RWY 3, Amdt 27E.
5-Feb-15 | SD | Hot Springs | Hot Springs Muni | 4/1801 | 12/23/14 | RNAV (GPS) RWY 19, Orig.
5-Feb-15 | SD | Lemmon | Lemmon Muni | 4/1805 | 12/23/14 | RNAV (GPS) RWY 29, Orig.
5-Feb-15 | SD | Madison | Madison Muni | 4/1806 | 12/23/14 | RNAV (GPS) RWY 33, Orig.
5-Feb-15 | SD | Madison | Madison Muni | 4/1808 | 12/23/14 | RNAV (GPS) RWY 15, Orig.
5-Feb-15 | SD | Miller | Miller Muni | 4/1810 | 12/23/14 | RNAV (GPS) RWY 15, Amdt 1.
5-Feb-15 | SD | Philip | Philip | 4/1813 | 12/23/14 | RNAV (GPS) RWY 30, Orig.
5-Feb-15 | SD | Rapid City | Rapid City Rgnl | 4/1814 | 12/23/14 | VOR OR TACAN RWY 32, Amdt 24F.
5-Feb-15 | SD | Rapid City | Rapid City Rgnl | 4/1815 | 12/23/14 | RNAV (GPS) RWY 23, Orig.
5-Feb-15 | SD | Rapid City | Rapid City Rgnl | 4/1816 | 12/23/14 | RNAV (GPS) RWY 5, Orig.
5-Feb-15 | SD | Rapid City | Rapid City Rgnl | 4/1817 | 12/23/14 | RNAV (GPS) RWY 32, Amdt 1B.
5-Feb-15 | GA | Atlanta | Hartsfield—Jackson Atlanta Intl | 4/3067 | 12/29/14 | RNAV (GPS) RWY 9L, Amdt 4.
5-Feb-15 | GA | Atlanta | Hartsfield—Jackson Atlanta Intl | 4/3068 | 12/29/14 | RNAV (GPS) PRM RWY 9L (SIMULTANEOUS CLOSE PARALLEL), Orig.
5-Feb-15 | NH | Berlin | Berlin Rgnl | 4/4988 | 12/18/14 | RNAV (GPS) RWY 18, Orig.
5-Feb-15 | NH | Berlin | Berlin Rgnl | 4/4989 | 12/18/14 | VOR B, Amdt 3.
5-Feb-15 | NH | Berlin | Berlin Rgnl | 4/4990 | 12/18/14 | VOR/DME RWY 18, Amdt 2.
5-Feb-15 | IA | Boone | Boone Muni | 4/9745 | 12/29/14 | RNAV (GPS) RWY 33, Amdt 1.
5-Feb-15 | VA | Richmond/Ashland | Hanover County Muni | 4/9757 | 12/22/14 | RNAV (GPS) RWY 16, Orig-C.
5-Feb-15 | VA | Richmond/Ashland | Hanover County Muni | 4/9758 | 12/22/14 | VOR RWY 16, Amdt 2C.
5-Feb-15 | VA | Richmond/Ashland | Hanover County Muni | 4/9759 | 12/22/14 | LOC RWY 16, Amdt 3C.
5-Feb-15 | IA | Burlington | Southeast Iowa Rgnl | 4/9838 | 12/29/14 | VOR/DME RWY 12, Amdt 6A.
5-Feb-15 | IA | Des Moines | Des Moines Intl | 4/9859 | 12/29/14 | ILS OR LOC RWY 31, ILS RWY 31 (CAT II & III), Amdt 23A.
5-Feb-15 | IA | Pocahontas | Pocahontas Muni | 4/9889 | 12/29/14 | RNAV (GPS) RWY 12, Orig-B.
5-Feb-15 | IA | Pocahontas | Pocahontas Muni | 4/9890 | 12/29/14 | NDB RWY 12, Amdt 5B.

[FR Doc. 2015-01026 Filed 1-29-15; 8:45 am]

BILLING CODE 4910-13-P